DEPARTMENT OF THE INTERIOR

National Park Service

[NPS-NCR-WHHO-17124; PPNCWHHOA1, PPMPSPD1Z.YM0000]

Notice of Meeting, Committee for the Preservation of the White House

AGENCY: National Park Service, Interior.

ACTION: Notice of meeting.

SUMMARY: Notice is hereby given in accordance with the Federal Advisory Committee Act (5 U.S.C. Appendix 1-16) that a meeting of the Committee for the Preservation of the White House will be held at the White House at 12:00 p.m. on Thursday, December 11, 2014.

DATES: Thursday, December 11, 2014 (Eastern).

ADDRESSES: The White House, 1600 Pennsylvania Avenue NW., Washington, DC 20500.

FOR FURTHER INFORMATION CONTACT: Comments may be provided to: John Stanwich, Executive Secretary, Committee for the Preservation of the White House, 1100 Ohio Drive SW., Washington, DC 20242, (202) 619-6344. Before including your address, telephone number, email address, or other personal identifying information in your comment, you should be aware that your entire comment—including your personal identifying information—may be made publicly available at any time. While you may ask us in your comment to withhold your personal identifying information from public review, we cannot guarantee that we will be able to do so.

SUPPLEMENTARY INFORMATION: It is expected that the meeting agenda will include policies, goals, and long-range plans. The meeting will be open, but subject to appointment and security clearance requirements. Clearance information, which includes full name, date of birth, Social Security number, city and state of residence, and country of citizenship must be received by December 3, 2014. Due to the present mail delays being experienced, clearance information should be faxed to (202) 619-6353 in order to assure receipt by deadline. Inquiries may be made by calling the Committee for the Preservation of the White House between 9 a.m. and 4 p.m. weekdays at (202) 619-6344. Written comments may be sent to John Stanwich, Executive Secretary, Committee for the Preservation of the White House, 1100 Ohio Drive SW., Washington, DC 20242.

Dated: November 6, 2014 .
Alma Ripps,
Chief, Office of Policy.

[FR Doc. 2014-26923 Filed 11-12-14; 8:45 am]

BILLING CODE 4310-EE-P